NUCLEAR REGULATORY COMMISSION

[NRC-2012-0293]

Initial Test Programs for Water-Cooled Nuclear Power Plants

AGENCY: Nuclear Regulatory Commission.

ACTION: Regulatory guide; issuance.

SUMMARY: The U.S. Nuclear Regulatory Commission (NRC) is issuing a revision to Regulatory Guide (RG), 1.68, “Initial Test Programs for Water-Cooled Nuclear Power Plants.” This guide describes the general scope and depth that the staff of the NRC considers acceptable for Initial Test Programs (ITPs) for light water cooled nuclear power plants.

ADDRESSES: Please refer to Docket ID NRC-2012-0293 about the availability of information regarding this document. You may access information related to this document, which the NRC possesses and are publically available, by using any of the following methods:

• Federal Rulemaking Web site: Go to http://www.regulations.gov and search for Docket ID NRC-2012-0293. Address questions about NRC dockets to Carol Gallagher; telephone: 301-492-3668; email: Carol.Gallagher@nrc.gov. For technical questions, contact the individual(s) listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice is provided the first time that a document is referenced. Revision 4 of Regulatory Guide 1.68, is available in ADAMS under Accession No. ML13051A027. The regulatory analysis may be found in ADAMS under Accession No. ML13051A035.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Mark Orr, Office of Nuclear Regulatory Research, U.S. Nuclear Regulatory Commission, Washington, DC 20555-0001; telephone: 301-251-7495 or email: mark.orr@nrc.gov.

SUPPLEMENTARY INFORMATION:

I. Introduction

The NRC is issuing a revision to an existing guide in the NRC's “Regulatory Guide” series. This series was developed to describe and make available to the public information such as methods that are acceptable to the NRC staff for implementing specific parts of the NRC's regulations, techniques that the staff uses in evaluating specific problems or postulated accidents, and data that the staff needs in its review of applications for permits and licenses. This regulatory guide is a rule as designated in the Congressional Review Act (5 U.S.C. 801-808). However, the Office of Management and Budget (OMB) has not found it to be a major rule as designated in the Congressional Review Act.

II. Further Information

This guide describes the general scope and depth that the NRC staff considers acceptable for ITPs for light water cooled nuclear power plants. This RG is being revised to address design qualification tests for new design certifications (DCs) and combined licenses (COLs) using the requirements in part 52 of Title 10 of the Code of Federal Regulations (10 CFR), “Licenses, Certifications, and Approvals for Nuclear Power Plants.” This RG is also being revised to add some preoperational, low-power and power ascension tests for new light water reactors (LWRs) licensed under 10 CFR Part 52. In addition, this RG is being revised to add new and updated references.

The RG has 3 appendices. Appendix A addresses the specific tests recommended or required for the ITPs. Appendix B provides information about ITP-related inspections that the NRC staff will perform, including the appropriate regional office staff. Finally, Appendix C contains guidance on the preparation and content of procedures for preoperational, fuel loading, initial criticality, low power, and power ascension tests.

III. Backfitting and Issue Finality

Issuance of this final regulatory guide does not constitute backfitting as defined in 10 CFR 50.109 (the Backfit Rule) and is not otherwise inconsistent with the issue finality provisions in 10 CFR Part 52. As discussed in the “Implementation” section of this regulatory guide, the NRC has no current intention to impose this regulatory guide on holders of current operating licenses or combined licenses.

This regulatory guide may be applied to applications for operating licenses and combined licenses docketed by the NRC as of the date of issuance of the final regulatory guide, as well as future applications for operating licenses and combined licenses submitted after the issuance of the regulatory guide. Such action does not constitute backfitting as defined in 10 CRF 50.109(a)(1) or is otherwise inconsistent with the applicable issue finality provision in 10 CFR Part 52, inasmuch as such applicants or potential applicants are not within the scope of entities protected by the Backfit Rule or the relevant issue finality provisions in Part 52.

Dated at Rockville, Maryland, this 31st day of May, 2013.
For the Nuclear Regulatory Commission.
Thomas H. Boyce,
Chief, Regulatory Guide Development Branch, Division of Engineering, Office of Nuclear Regulatory Research.

[FR Doc. 2013-13951 Filed 6-11-13; 8:45 am]

BILLING CODE 7590-01-P